FEDERAL RESERVE SYSTEM

Agency Information Collection Activities: Announcement of Board Approval Under Delegated Authority and Submission to OMB

SUMMARY:

Background

Notice is hereby given of the final approval of proposed information collection(s) by the Board of Governors of the Federal Reserve System (Board) under OMB delegated authority, as per 5 CFR 1320.16 (OMB Regulations on Controlling Paperwork Burdens on the Public). Board-approved collections of information are incorporated into the official OMB inventory of currently approved collections of information. Copies of the OMB 83-Is and supporting statements and approved collection of information instrument(s) are placed into OMB's public docket files. The Federal Reserve may not conduct or sponsor, and the respondent is not required to respond to, an information collection that has been extended, revised, or implemented on or after October 1, 1995, unless it displays a currently valid OMB control number.

FOR FURTHER INFORMATION CONTACT: Federal Reserve Board Clearance Officer—Mary M. West—Division of Research and Statistics, Board of Governors of the Federal Reserve System, Washington, DC 20551 (202-452-3829); OMB Desk Officer—Alexander T. Hunt—Office of Information and Regulatory Affairs, Office of Management and Budget, New Executive Office Building, Room 3208, Washington, DC 20503 (202-395-7860).

Final Approval Under OMB Delegated Authority of the Extension for Three Years, With Revision, of the Following Report

1. Report title: The Bank Holding Company Report of Insured Depository Institutions' Section 23A Transactions with Affiliates.

Agency form numbers: FR Y-8.

OMB control number: 7100-0126.

Frequency: Quarterly.

Reporters: Bank holding companies (BHC), financial holding companies, foreign banking organizations (FBO).

Annual reporting hours: 169,661 hours.

Estimated average hours per response: 7.2 hours.

Number of respondents: 5,891.

Small businesses are not affected.

General description of report: This information collection is authorized by section 5(c) of the BHC Act (12 U.S.C. 1844 (c)) and section 225.5 (b) of Regulation Y (12 CFR 225.5 (b)) and is given confidential treatment pursuant to the Freedom of Information Act (5 U.S.C. 552 (b)(4) and (8)).

Abstract: The current FR Y-8 collects information on the movement of funds between a domestic BHC and its subsidiaries in order to identify broad categories of intercompany transactions and balances that may affect the financial condition of the subsidiary bank. The report also collects information on income recognized by subsidiary banks from other BHC members as well as information on credit extended by subsidiary banks to other BHC members. Domestic top-tier BHC with assets of $300 million or more are required to file the FR Y-8 on a semiannual basis (June and December). Also, interim reporting is currently required within ten calendar days of certain large asset transfers.

Current actions: On June 6, 2000, the Federal Reserve issued a Federal Register notice (65 FR 35934) requesting public comment on a proposal to completely revise the FR Y-8. The Federal Reserve proposed to delete the current information on the FR Y-8 and collect fourteen items of information on section 23A covered transactions. The comment period ended on August 7, 2000. The Federal Reserve received comments from eight banking organizations on the proposed revisions to the FR Y-8. Commenters suggested three alternatives for reducing burden: (1) monitor compliance with section 23A of the Federal Reserve Act through the examination process or by adding limited amount of information to the consolidated or parent-only BHC financial statements; (2) exempt or limit the number of respondents by using a size or materiality threshold or only require reporting by institutions with identifiable compliance issues and (3) eliminate the reporting of maximum aggregate amounts outstanding during the quarter. In addition to the suggestions for reducing burden, several commenters also suggested extending the due date for filing from 30 to 60 days and delaying the implementation of the revised report.

In response to public comments, the Federal Reserve will implement the revised FR Y-8 in December 2000. However, the Federal Reserve continues to believe, as proposed, that a separate report collected on an individual insured depository institution basis for all insured depository institutions that are owned by BHCs or FBOs is necessary to monitor compliance with section 23A. The information requested at the end of each reporting period as well as the maximum amount during the period is necessary to monitor compliance. The Federal Reserve believes, as pointed out by three commenters, that insured depository institutions should already, on an ongoing basis, have established internal control systems to monitor their section 23A covered transactions and, as a result, should be able to provide all the information requested on the revised reporting form.

Discontinuance of the Following Report Under OMB Delegated Authority

Report title: Report of Intercompany Transactions for Foreign Banking Organizations and their U.S. Bank Subsidiaries.

Agency form number: FR Y-8f.

OMB control number: 7100-0127.

Frequency: Semi-annually, and interim reporting required for certain large asset transfers.

Reporters: Bank holding companies as defined by section 2(a) of the Bank Holding Company Act with at least $300 million in total consolidated assets that are organized under the laws of a foreign country and principally engaged in banking outside the United States.

Annual reporting hours: 360 hours.

Estimated average hours per response: 3 hours.

Number of respondents: 58 semiannual respondents; 4 interim respondents.

Small businesses are not affected.

General description of report: This information collection is authorized by section 5(c) of the Bank Holding Company Act (12 U.S.C. 1844(c)) and section 225.5(b) of Regulation Y (12 CFR 225.5(b)) and is given confidential treatment pursuant to the Freedom of Information Act (5 U.S.C. 552(b)(8)).

Abstract: This report provides the Federal Reserve System with information on intercompany transactions between FBOs and their U.S. bank subsidiaries. It enables the Federal Reserve to monitor and supervise intercompany flows of funds to ensure that U.S. subsidiary banks are not engaging in any unsafe and unsound practices with their foreign owners. This report supplements the Board's global framework for the supervision of the U.S. operations of foreign banks. In addition, it aids in determining whether a foreign banking organization serves as a source of strength to its U.S. subsidiary.

Current Actions: On June 6, 2000, the Federal Reserve issued a Federal Register notice (65 FR 35934) requesting public comment on a proposal to completely revise the FR Y-8. The Federal Reserve proposed to delete the current information on the FR Y-8 and collect fourteen items of information on section 23A covered transactions. The Federal Reserve also proposed to add FBOs that directly own U.S. subsidiary banks to the reporting panel of the revised FR Y-8 and to discontinue the FR Y-8f. The comment period ended on August 7, 2000. No comments were received on the discontinuance of the FR Y-8f.

Board of Governors of the Federal Reserve System, August 23, 2000.
Jennifer J. Johnson,
Secretary of the Board.

[FR Doc. 00-21956 Filed 8-28-00; 8:45 am]

BILLING CODE 6210-01-P